EQUAL EMPLOYMENT OPPORTUNITY COMMISSION

SES Performance Review Board Members

AGENCY: Equal Employment Opportunity Commission.

ACTION: Notice of members of the U.S. Equal Employment Opportunity Commission Performance Review Board (PRB).

SUMMARY: Pursuant to 5 U.S.C. 4314(c)(4), this notice announces the reappointment of members of the PRB for the Equal Employment Opportunity Commission (EEOC). The Board makes recommendations to the appointing official on the performance of executives, including recommendations on performance ratings, bonuses and other appropriate personnel actions.

DATES: Membership is effective on the date of this notice.

FOR FURTHER INFORMATION CONTACT: Angelica E. Ibarguen, Chief Human Capital Officer, Equal Employment Opportunity Commission, 1801 L Street, NW., Washington, DC 20507, 202.663.4306.

Composition of PRB: The Board shall consist of at least three voting members. When appraising a career appointee's performance or recommending a career appointee for a performance award, more than half of the members must be SES career appointees. The names and titles of the PRB members are as follows:

Primary Members

Angelica E. Ibarguen, Chief Human Capital Officer, EEOC—(Chairperson), Reuben Daniels, Jr., Director, Charlotte District Office, EEOC—(Member), James L. Lee, Deputy General Counsel, EEOC—(Member).

Signed at Washington, DC, on this 21st day of December, 2005.
For the Commission.
Cari M. Dominguez,
Chair.

[FR Doc. 05-24514 Filed 12-27-05; 8:45 am]

BILLING CODE 6570-01-M